DEPARTMENT OF ENERGY

Federal Energy Regulatory Commission

[Docket No. RP96-272-048]

Northern Natural Gas Company; Notice of Negotiated Rates

April 3, 2003.

Take notice that on March 31, 2003, Northern Natural Gas Company (Northern) tendered for filing to become part of its FERC Gas Tariff, Fifth Revised Volume No. 1, 29 Revised Sheet No. 66 and 25 Revised Sheet No. 66A, proposed to be effective on April 1, 2003.

Northern states that the above sheets are being filed to implement specific negotiated rate transactions with Occidental Energy Marketing, Inc. and WPS Energy Services, Inc. in accordance with the Commission's Policy Statement on Alternatives to Traditional Cost-of-Service Ratemaking for Natural Gas Pipelines.

Northern further states that copies of the filing have been mailed to each of its customers and interested State Commissions.

Any person desiring to be heard or to protest said filing should file a motion to intervene or a protest with the Federal Energy Regulatory Commission, 888 First Street, NE., Washington, DC 20426, in accordance with sections 385.314 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 14, 2003.

Magalie R. Salas,
Secretary.

[FR Doc. 03-8787 Filed 4-9-03; 8:45 am]

BILLING CODE 6717-01-P